NUCLEAR REGULATORY COMMISSION

[Docket Nos. 52-025 and 52-026; NRC-2008-0252]

Southern Nuclear Operating Company; Vogtle Electric Generating Plant, Units 3 and 4; Ventilation System Changes

AGENCY: Nuclear Regulatory Commission.

ACTION: License amendment application; withdrawal by applicant.

SUMMARY: The U.S. Nuclear Regulatory Commission (NRC) has granted the request of Southern Nuclear Operating Company (SNC) to withdraw its application dated December 9, 2016, for a proposed amendment and exemption to Combined Licenses (COL), NPF-91 and NPF-92 for the Vogtle Electric Generating Plant Units 3 and 4, respectively. The proposed amendment would have revised the COLs concerning the design details of the containment recirculation cooling system (VCS) and radiologically controlled area ventilation system (VAS). SNC submitted the withdrawal request in a letter dated June 28, 2017.

DATES: July 27, 2017.

ADDRESSES: Please refer to Docket ID NRC-2008-0252 when contacting the NRC about the availability of information regarding this document. You may obtain publicly-available information related to this document using any of the following methods:

• Federal Rulemaking Web site: Go to http://www.regulations.gov and search for Docket ID NRC-2008-0252. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The request for the amendment and exemption was submitted by letter dated December 9, 2016, and is available in ADAMS under Accession No. ML16344A411.

• NRC's PDR: You may examine and purchase copies of public documents at the NRC's PDR, Room O1-F21, One White Flint North, 11555 Rockville Pike, Rockville, Maryland 20852.

FOR FURTHER INFORMATION CONTACT: Ruth C. Reyes, Office of New Reactors, U.S. Nuclear Regulatory Commission, Washington, DC 20555-0001; telephone: 301-415-3249; email: Ruth.Reyes@nrc.gov.

SUPPLEMENTARY INFORMATION: The NRC has granted the request of SNC (the licensee) to withdraw its December 9, 2016, application (ADAMS Accession No. ML16344A411) for proposed amendment and exemption to COL NPF-91 and NPF-92 for the Vogtle Electric Generating Plant Units 3 and 4, respectively, located in Burke County, Georgia.

The proposed amendment would have changed plant-specific Tier 1 (and COL Appendix C) Tables 2.7.5-1, 2.7.5-2, and 2.7.7-3 and associated Updated Final Safety Analysis Report text, tables, and figures related to: (1) Modifying the configuration of the containment recirculation fan coil unit assemblies of the VCS, and revising the values for the various design parameters affected by this re-configuration, (2) adding a fourth pressure differential indicator to the radiologically controlled area ventilation system to be located in the auxiliary building component cooling system valve room, and (3) reducing the total ventilation flow provided through the VAS fuel handling area ventilation subsystem as a result of a reduction in heat loads in the areas serviced by the VAS.

This proposed amendment request was noticed in the Federal Register (82 FR 13662) dated March 14, 2017.

Dated at Rockville, Maryland, this 18th day of July 2017.
For the Nuclear Regulatory Commission.
Jennifer Dixon-Herrity,
Chief, Licensing Branch 4, Division of New Reactor Licensing, Office of New Reactors.

[FR Doc. 2017-15756 Filed 7-26-17; 8:45 am]

BILLING CODE 7590-01-P